NATIONAL WOMEN'S BUSINESS COUNCIL

Federal Register Meeting Notice; Quarterly Public Meeting

AGENCY: National Women's Business Council.

ACTION: Notice of open public meeting.

DATES: The Public Meeting teleconference will be held on Wednesday, March 28, 2018 from 2:00 p.m. to 3:30 p.m. EST.

ADDRESSES: The meeting will be held via teleconference.

SUPPLEMENTARY INFORMATION: Pursuant to section 10(a)(2) of the Federal Advisory Committee Act (5 U.S.C., Appendix 2), the U.S. Small Business Administration (SBA) announces the meeting of the National Women's Business Council. The National Women's Business Council conducts research on issues of importance and impact to women entrepreneurs and makes policy recommendations to the SBA, Congress, and the White House on how to improve the business climate for women.

This meeting is the 2nd Quarter meeting for Fiscal Year 2018. The online meeting will provide stakeholders with updates on the Council's research and engagement activities. Time will be reserved at the end for audience participants to address Council Members, directly, with questions, comments, or feedback.

FOR FURTHER INFORMATION CONTACT: The meeting is open to the public; however advance notice of attendance is requested. To RSVP and confirm attendance, the general public should email info@nwbc.gov with subject line—“RSVP for 03/28/18 Public Meeting”. Anyone wishing to make a presentation to the NWBC at this meeting must contact Cristina Flores, Associate Director of Public Affairs at info@nwbc.gov or 202-205-6827.

For more information, please visit the National Women's Business Council website at www.nwbc.gov.

Dated: February 20, 2018.
Richard Kingan,
SBA Committee Management Officer.

[FR Doc. 2018-04242 Filed 3-1-18; 8:45 am]

BILLING CODE P